DEPARTMENT OF HEALTH AND HUMAN SERVICES

National Institutes of Health

National Heart, Lung, and Blood Institute; Amended Notice of Meeting

Notice is hereby given of a change in the meeting of the NHLBI Mentored Clinical and Basic Science Review Committee, March 19, 2020, 10:30 a.m. to March 20, 2020, 03:00 p.m., Holiday Inn National Airport Hotel, 2650 Jefferson Davis Highway, Arlington, VA 22202 which was published in the Federal Register on January 29, 2020, 85 FR 5219.

The NHLBI IRG meeting is being amended due to a change in the meeting format. This two-day meeting to be held on March 19-20, 2020 will be a teleconference meeting. The meeting is closed to the public.

Dated: March 11, 2020.
Ronald J. Livingston, Jr.,
Program Analyst, Office of Federal Advisory Committee Policy.

[FR Doc. 2020-05436 Filed 3-16-20; 8:45 am]

BILLING CODE 4140-01-P